FEDERAL TRADE COMMISSION

[File No. 051 0094]

Negotiated Data Solutions LLC; Analysis of Proposed Consent Order to Aid Public Comment

AGENCY: Federal Trade Commission.

ACTION: Extension of deadline for submission of public comments.

SUMMARY: The Federal Trade Commission is extending the deadline for filing public comments in connection with the consent agreement in this matter, which settles alleged violations of federal law prohibiting unfair or deceptive acts or practices and unfair methods of competition.

DATES: Public comments must be received on or before April 24, 2008.

ADDRESSES: Interested parties are invited to submit written comments. Comments should refer to ‘‘Negotiated Data Solutions, File No. 051 0094,’’ to facilitate the organization of comments. A comment filed in paper form should include this reference both in the text and on the envelope, and should be mailed or delivered to the following address: Federal Trade Commission/Office of the Secretary, Room 135-H (Annex D), 600 Pennsylvania Avenue, NW, Washington, D.C. 20580. Comments containing confidential material must be filed in paper form, must be clearly labeled “Confidential,” and must comply with Commission Rule 4.9(c). 16 CFR 4.9(c) (2005).¹ The FTC is requesting that any comment filed in paper form be sent by courier or overnight service, if possible, because U.S. postal mail in the Washington area and at the Commission is subject to delay due to heightened security. Comments that do not contain any nonpublic information may instead be filed in electronic form by following the instructions on the web-based form at http://secure.commentworks.com/ftc-NegotiatedDataSolutions. To ensure that the Commission considers an electronic comment, you must file it on that web-based form. The FTC Act and other laws the Commission administers permit the collection of public comments to consider and use in this proceeding as appropriate. All timely and responsive public comments, whether filed in paper or electronic form, will be considered by the Commission, and will be available to the public on the FTC website, to the extent practicable, at www.ftc.gov. As a matter of discretion, the FTC makes every effort to remove home contact information for individuals from the public comments it receives before placing those comments on the FTC website. More information, including routine uses permitted by the Privacy Act, may be found in the FTC’s privacy policy, at http://www.ftc.gov/ftc/privacy.htm.

¹ The comment must be accompanied by an explicit request for confidential treatment, including the factual and legal basis for the request, and must identify the specific portions of the comment to be withheld from the public record. The request will be granted or denied by the Commission’s General Counsel, consistent with applicable law and the public interest. See Commission Rule 4.9(c), 16 CFR 4.9(c).

FOR FURTHER INFORMATION CONTACT: Kent E. Cox (202) 326-2058, Bureau of Competition, Room NJ-6213, 600 Pennsylvania Avenue, NW, Washington, D.C. 20580.

SUPPLEMENTARY INFORMATION: On January 23, 2008, pursuant to section 6(f) of the Federal Trade Commission Act, 38 Stat. 721, 15 U.S.C. 46(f), and § 2.34 of the Commission Rules of Practice, 16 CFR 2.34, the Commission gave notice that the above-captioned consent agreement containing a consent order to cease and desist, having been filed with and accepted, subject to final approval, by the Commission, had been placed on the public record for a period of thirty (30) days, and published a Notice to that effect in the Federal Register. See 73 Fed. Reg. 5,846 (Jan. 31, 2008). The Notice also designated February 22, 2008, as the deadline for filing public comments. A number of prospective commenters have now requested an extension of the public comment period, in order to ensure that they will be able to provide the Commission with the best information available. In light of the number and importance of the issues on which it has requested comment, the Commission has determined to extend the filing deadline until April 24, 2008.

By direction of the Commission.

Donald S. Clark
Secretary.

[FR Doc. E8-3556 Filed 2-22-08: 8:45 am]

[BILLING CODE 6750-01-S]